DEPARTMENT OF COMMERCE

International Trade Administration

[A-570-941]

Certain Kitchen Appliance Shelving and Racks from the People's Republic of China: Rescission of Antidumping Duty Administrative Review; 2012-2013

AGENCY: Enforcement and Compliance, formerly Import Administration, International Trade Administration, Department of Commerce.

SUMMARY: The Department of Commerce (“Department”) is rescinding the administrative review of the antidumping duty order on certain kitchen appliance shelving and racks from the People's Republic of China (“PRC”) for the period of review (“POR”) September 1, 2012, through August 31, 2013. This rescission is based on the timely withdrawal of the request for review by the only interested party that requested a review.

DATES: Effective Date: December 27, 2013.

FOR FURTHER INFORMATION CONTACT: Emeka Chukwudebe, AD/CVD Operations, Office V, Enforcement and Compliance, International Trade Administration, U.S. Department of Commerce, 14th Street and Constitution Avenue NW., Washington, DC 20230; (202) 482-0219.

SUPPLEMENTARY INFORMATION:

Background

On September 3, 2013, the Department published in the Federal Register a notice of opportunity to request an administrative review of the antidumping duty order on certain kitchen appliance shelving and racks from the PRC.¹ On September 30, 2013, the Department received a timely request from U.S. importer Electrolux North America, Inc., Electrolux Home Products, Inc., and Electrolux Major Appliances (collectively “Electrolux”) to conduct an administrative review of Jiangsu Weixi Group Co. (“Weixi”).² On November 8, 2013, in response to Electrolux's September 30, 2013, request, the Department initiated an administrative review of the antidumping duty order on certain kitchen appliance shelving and racks from the PRC.³ On December 4, 2013, Electrolux withdrew its request for an administrative review of Weixi.⁴

¹ See Antidumping or Countervailing Duty Order, Finding, or Suspended Investigation; Opportunity To Request Administrative Review, 78 FR 54235 (September 3, 2013).

² See letter from Electrolux to the Department titled, “Kitchen Appliance Shelving and Racks from the People's Republic of China: Withdrawal of Request for Administrative Review” (December 4, 2013) (“Electrolux Withdrawal Request”).

³ See Initiation of Antidumping and Countervailing Duty Administrative Reviews and Request for Revocation In Part, 78 FR 67104 (November 8, 2013); see also section 751(a) of the Tariff Act of 1930, as amended (“the Act”) and 19 CFR 351.221(c)(l)(i).

⁴ See Electrolux Withdrawal Request.

Rescission of Administrative Review

Pursuant to 19 CFR 351.213(d)(1), the Department will rescind an administrative review, in whole or in part, if a party that requested a review withdraws the request within 90 days of the date of publication of notice of initiation of the requested review, which in this case is February 6, 2014. On December 4, 2013, Electrolux timely withdrew its request for review within the 90-day time limit. Because no other party requested a review, pursuant to 19 CFR 351.213(d)(1), the Department is rescinding the administrative review of the antidumping duty order on certain kitchen appliance shelving and racks from the PRC covering the period September 1, 2012, through August 31, 2013.

Assessment

The Department will instruct U.S. Customs and Border Protection (“CBP”) to assess antidumping duties on all appropriate entries of certain kitchen appliance shelving and racks from the PRC during the POR at rates equal to the cash deposit rate of estimated antidumping duties required at the time of entry, or withdrawal from warehouse, for consumption, in accordance with 19 CFR 351.212(c)(l)(i). The Department intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Act and 19 CFR 351.213(d)(4).

Dated: December 20, 2013.
Christian Marsh,
Deputy Assistant Secretary for Antidumping and Countervailing Duty Operations.

[FR Doc. 2013-31116 Filed 12-26-13; 8:45 am]

BILLING CODE 3510-DS-P